ENVIRONMENTAL PROTECTION AGENCY

[EPA-HQ-OPP-2009-1017; FRL--9327-2]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been canceled only if such sale, distribution, or use is consistent with the terms as described in the final order.

DATES: Comments must be received on or before December 21, 2011.

ADDRESSES: Submit your comments, identified by docket identification (ID) number EPA-HQ-OPP-2009-1017, by one of the following methods:

• Federal eRulemaking Portal: http://www.regulations.gov. Follow the on-line instructions for submitting comments.

• Mail: Office of Pesticide Programs (OPP) Regulatory Public Docket (7502P), Environmental Protection Agency, 1200 Pennsylvania Ave. NW., Washington, DC 20460-0001.

Submit written withdrawal request by mail to: Pesticide Re-evaluation Division (7508P), Office of Pesticide Programs, Environmental Protection Agency, 1200 Pennsylvania Ave. NW., Washington, DC 20460-0001. ATTN: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-1017. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave. NW., Washington, DC 20460-0001; telephone number: (703) 347-0123; email address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 28 pesticide products registered under FIFRA section 3 or 24(c). These registrations are listed in sequence by registration number (or company number and 24(c) number) in Table 1 of this unit. The cancellation of the two tralomethrin products, EPA Reg. Nos. 065092-00001 and 075015-00001 will be effective December 15, 2014 and are the last registered products containing this active ingredient.

Unless the Agency determines that there are substantive comments that warrant further review of the requests or the registrants withdraw their requests, EPA intends to issue an order in the Federal Register canceling all of the affected registrations.

Table 1—Registrations With Pending Requests for Cancellation
EPA Reg. No. | Product name | Active ingredients
000239-02626 | Ortho Home Defense Hi-Power Brand Indoor Insect Fogger | MGK 264 Pyrethrins Permethrin.
000499-00504 | TC 235 Cold Fogger Concentrate | MGK 264 Pyrethrins Piperonyl butoxide 2, 4-Dodecadienoic acid, 3,7,11-trimethyl-, ethyl ester, (S-(E,E))-.
000655-00308 | Prentox Pyrethrum Extract “25” | Pyrethrins.
000769-00948 | Pratt Cygon 2-E Systemic Insecticide | Dimethoate.
002724-00338 | Zoecon RF-275 | MGK 264 Piperonyl butoxide Pyrethrins S-Methoprene.
002724-00607 | Farnam Pyrethrin Concentrate | Piperonyl butoxide Pyrethrins.
002724-00706 | Elite Flea and Tick Dip | MGK 264 Piperonyl butoxide Pyrethrins.
002724-00707 | Elite Extra-Strength Flea and Tick Dip | MGK 264 Piperonyl butoxide Pyrethrins.
005887-00041 | Black Leaf Tri-Basic Bordeaux Powder | Basic copper sulfate.
010807-00446 | Purge II | Pyrethrins Piperonyl butoxide.
010807-00448 | Country Vet Flea & Tick Fogger with Growth Inhibitor | MGK 264 Pyrethrins Pyriproxyfen Permethrin.
013283-00025 | Rainbow Flying & Crawling Bug Killer II | Bioallethrin.
028293-00212 | Unicorn Ear Miticide III | Pyrethrins Piperonyl butoxide.
028293-00348 | Unicorn Ear Miticide IV | Pyrethrins Piperonyl butoxide.
040849-00046 | Enforcer Four Hour Fogger V | Phenothrin Tetramethrin.
056156-00001 | X-100 Natural Seal Wood Preservative | 2-(Thiocyanomethylthio) benzothiazole Methylene bis (thiocyanate).
065092-00001 | ZE LIN Chen Chalk | Tralomethrin.
074965-00002 | Comet With Bleach Disinfectant Cleanser | Sodium dichloroisocyanurate dihydrate.
075015-00001 | Dead-Fast Insecticide Chalk | Tralomethrin.
080697-00009 | Chlorpyrifos Technical | Chlorpyrifos.
CA010009 | Supracide 25W | Methidathion.
CO080005 | Dicofol 4E | Dicofol.
FL760014 | Cythion Insecticide The Premium Grade Malathion | Malathion.
ID070002 | Dicofol 4E | Dicofol.
ID990018 | Kelthane MF Agricultural Miticide | Dicofol.
ME960001 | Imidan 2.5 EC | Phosmet.
SD040004 | Princep Caliber 90 | Simazine.
UT070005 | Dicofol 4E | Dicofol.

Table 2 of this unit includes the names and addresses of record for all registrants of the products in Table 1 of this unit, in sequence by EPA company number. This number corresponds to the first part of the EPA registration numbers of the products listed in this unit.

Table 2—Registrants Requesting Voluntary Cancellation
EPA company no. | Company name and address
239 | The Scotts Company, P.O. Box 190, Marysville, OH 43040.
499 | Whitmire Micro-Gen Research Laboratories, Inc. Agent: BASF CORP., 3568 Tree Court Industrial Blvd., St. Louis, MO 63122-6682.
655 | Prentiss, Inc., Agent: Pyxis Regulatory Consulting, Inc., 4110 136th St. NW., Gig Harbor, WA 98332.
769 | Value Gardens Supply LLC, P.O. Box 585, Saint Joseph, MO 64502.
2724 | Wellmark International, 1501 E. Woodfield Rd., Suite 200, West Schaumburg, IL 60173.
5887 | Value Gardens Supply, LLC, D/B/A Garden Value Supply, P.O. Box 585, Saint Joseph, MO 64502.
10807 | Amrep, Inc., Agent: Lewis & Harrison LLC, 122 C St. NW., Washington, DC 20001.
13283 | Rainbow Technology Corporation, Agent: RegWest Company LLC, 8203 West 20th St., Suite A, Greeley, CO 80634-4696.
28293 | Phaeton Corporation Agent Registrations By Design Inc., P.O. Box 1019, Salem, VA 24153.
40849 | ZEP Commercial Sales & Service, Agent: Connie Welch and Associates, 4196 Merchant Plaza #344, Lake Ridge, VA 22192.
56156 | American Building Restoration Products Inc., 9720 South 60th Street, Franklin, WI 53132.
65092 | Ze Lin Chen 137, Casuda Canyon Dr. #A, Monterey Park, CA 91754.
74965 | Spic And Span D/B/A Prestige Brands International, 90 North Broadway, Irvington, NY 10533.
75015 | Bernard I. Segal, 2406 Vallecitos, La Jolla, CA 92037.
80697 | Zhejian Tide Cropscience Co. LTD, Agent: Tide International, USA, Inc., 21 Hubble, Irvine, CA 92618.
CA010009; ME960001 | Gowan Company, P.O. Box 5569, Yuma, AZ 85366-8844.
CO080005; ID070002; UT070005 | Makhteshim-Agan of North America Inc., 4515 Falls of Neuse Rd., Suite 300, Raleigh, NC 27069.
FL760014 | Lee County Mosquito Control District, P.O. Box 60005, Fort Myers, FL 33906.
ID990018 | Dow Agrosciences LLC, 9330 Zionsville Rd. 308/2E, Indianapolis, IN 46268-1054.
SD040004 | Syngenta Crop Protection LLC, D/B/A Syngenta Crop Protection, Inc., P.O. Box 18300, Greensboro, NC 27149-8300.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

A. Registrations Listed in Table 1 of Unit II Except EPA Reg. Nos. 065092-00001 and 075015-00001

EPA anticipates allowing registrants to sell and distribute existing stocks of these products for 1 year after publication of the Cancellation Order in the Federal Register. Thereafter, registrants will be prohibited from selling or distributing the pesticides identified in Table 1 of Unit II, except for export consistent with FIFRA section 17 or for proper disposal. Persons other than registrants will generally be allowed to sell, distribute, or use existing stocks until such stocks are exhausted, provided that such sale, distribution, or use is consistent with the terms of the previously approved labeling on, or that accompanied, the canceled products.

B. EPA Registration Nos. 065092-00001 and 075015-00001

The cancellation of these products will be effective December 15, 2014. Thereafter, registrants will be prohibited from selling or distributing these two pesticide products, except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: November 10, 2011.
Peter Caulkins,
Acting Director, Pesticide Re-evaluation Division, Office of Pesticide Programs.

[FR Doc. 2011-29990 Filed 11-22-11; 8:45 am]

BILLING CODE 6560-50-P